DEPARTMENT OF THE INTERIOR

Fish and Wildlife Service

[FWS-R2-ES-2020-N086; FXES11130200000-201-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by August 21, 2020.

ADDRESSES:

Document availability: Request documents by phone or email: Susan Jacobsen, 505-248-6641, susan_jacobsen@fws.gov.

Comment submission: Submit comments by email to fw2_te_permits@fws.gov. Please specify the permit you are interested in by number (e.g., Permit No. TE-123456).

FOR FURTHER INFORMATION CONTACT: Susan Jacobsen, Chief, Classification and Restoration Division, 505-248-6641. Individuals who are hearing or speech impaired may call the Federal Relay Service at 1-800-877-8339 for TTY assistance.

SUPPLEMENTARY INFORMATION:

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE066550 | Logan Simpson Design, Inc.; Tempe, Arizona | Black-footed ferret (Mustela nigripes), southwestern willow flycatcher (Empidonax traillii extimus), Yuma clapper rail (Rallus longirostris yumanensis), razorback sucker (Xyrauchen texanus), Gila topminnow (Poeciliopsis occidentalis) | Arizona, New Mexico, Utah | Presence/absence surveys, habitat surveys, nest monitoring | Capture, harm, harass, injury, death | Renew.
TE028605 | SWCA; Flagstaff, Arizona | Black-footed ferret (Mustela nigripes), southwestern willow flycatcher (Empidonax traillii extimus), Yuma clapper rail (Rallus longirostris yumanensis), razorback sucker (Xyrauchen texanus), Gila topminnow (Poeciliopsis occidentalis), Spikedace (Mega fulgida), loach minnow (Tiaroga cobitis), Sonoyta mud turtle (Kinosternon sonoriense longifemorale), Virgin River chub (Gila seminuda (=robusta)) | Arizona, New Mexico | Presence/absence surveys, habitat surveys, nest monitoring | Harm, harass, injury, death | Renew.
TE822998 | USDA, Coronado National Forest; Tucson, Arizona | Southwestern willow flycatcher (Empidonax traillii extimus), Yuma clapper rail (Rallus longirostris yumanensis), Mexican long-nosed bat (Leptonycteris nivalis), ocelot (Leopardus pardalis), jaguar (Panthera onca), Mount Graham red squirrel (Tamiasciurus hudsonicus grahamensis), Northern aplomado falcon (Falco femoralis septentrionalis), masked bobwhite quail (Colinus virginianus ridgwayi), Sonora tiger salamander (Ambystoma tigrinum stebbinsi), Gila topminnow (Poeciliopsis occidentalis), desert pupfish (Cyprinodon macularius), Yaqui chub (Gila purpurea), Gila chub (Gila intermedia) | Arizona, New Mexico | Presence/absence surveys | Harm, harass | Renew.
TE43777A | Sea Life Aquarium; Grapevine, Texas | Kemp's ridley sea turtle (Lepidochelys kempii), hawksbill sea turtle (Eretmochelys imbricata), green sea turtle (Chelonia mydas) | Texas | Captive breeding, rehabilitation | Harm, harass | Renew.
TE155413 | Sonoran Institute; Tucson, Arizona | Gila topminnow (Poeciliopsis occidentalis) | Arizona | Presence/absence surveys; collection | Harass, harm, capture, injury, death | New.
TE28787B | Lawrence, Cindy; Buena Vista, Colorado | Southwestern willow flycatcher (Empidonax traillii extimus) | New Mexico, Utah | Presence/absence surveys | Harm, harass | Renew.
TE75679D | Ramirez, Alex; Katy, Texas | Golden-cheeked warbler (Setophaga chrysoparia) | Texas | Presence/absence surveys | Harm, harass | New.
TE091552 | Homesley, Zane; Austin, Texas | American burying beetle (Nicrophorus americanus), golden-cheeked warbler (Setophaga chrysoparia), southwestern willow flycatcher (Empidonax traillii extimus), Houston toad (Bufo houstonensis) | Texas | Presence/absence surveys | Harm, harass | Renew.
TE584243B | Hill, Austin; Richardson, Texas | American burying beetle (Nicrophorus americanus) | Arkansas, Kansas, Oklahoma, Texas | Presence/absence surveys | Harass, harm | Renew.
TE54802B | Philips-Schaap, Megan; Tulsa, Oklahoma | American burying beetle (Nicrophorus americanus) | Arkansas, Kansas, Missouri, Ohio, Oklahoma, Nebraska, Texas | Presence/absence surveys | Harm, harass | Renew.
TE74315D | Hogue, Chaylum; Ada, Oklahoma | American burying beetle (Nicrophorus americanus) | Oklahoma | Presence/absence surveys | Harm, harass | Renew.
TE75601D | Horner, Kaitlyn; Goodyear, Arizona | Southwestern willow flycatcher (Empidonax traillii extimus) | Arizona | Presence/absence surveys | Harm, harass | New.
TE52561B | Teague, Trevor; Bixby, Oklahoma | American burying beetle (Nicrophorus americanus) | Arkansas, Kansas, Oklahoma, Texas | Presence/absence surveys | Harass, harm | Renew.
TE053104 | ACI Group, LLC.; Austin, Texas | Golden-cheeked warbler (Setophaga chrysoparia), Houston toad (Bufo houstonensis), Coffin Cave mold beetle (Batrisodes texanus), Helotes mold beetle (Batrisodes venyivi), Robber Baron Cave meshweaver (Cicurina baronia), Madla Cave meshweaver (Cicurina madla), Bracken Bat Cave meshweaver (Cicurina venii), Government Canyon Bat Cave meshweaver (Cicurina vespera), Tooth Cave spider (Neoleptoneta myopica), Ground beetle (Rhadine exilis), Ground beetle (Rhadine infernalis), Tooth Cave ground beetle (Rhadine persephone), Tooth Cave pseudoscorpion (Tartarocreagris texana), Kretschmarr Cave mold beetle (Texamaurops reddelli), Cokendolpher cave harvestman (Texella cokendolpheri), Bee Creek Cave harvestman (Texella reddilli), Bone Cave harvestman (Texella reyesi) | Texas | Presence/absence surveys | Harass, harm | Renew.
TE233205 | Bonn, Thomas; Lockhart, Texas | Golden-cheeked warbler (Setophaga chrysoparia) | Texas | Presence/absence surveys | Harm, harass, | Renew.
TE43746A | Johnson, Matthew; Flagstaff, Arizona | Southwestern willow flycatcher (Empidonax traillii extimus) | Arizona, Colorado, New Mexico, Utah | Presence/absence surveys | Harm, harass, | Renew.
TE043399 | Eagle Environmental; Vinita, Oklahoma | American burying beetle (Nicrophorus americanus), interior least tern (Sterna antillarum athalassos) | Arkansas, Kansas, Louisiana, Oklahoma, Texas | Presence/absence surveys, | Harm, harass | Renew.
TE820730 | New Mexico Energy, Minerals, and Natural Resources Department; Santa Fe, New Mexico | Sacramento prickly poppy (Argemone pinnatisecta), Mancos milk-vetch (Astragalus humillimus), Sacramento Mountains thistle (Cirsium vinaceum), Lee's pincushion cactus (Coryphantha sneedii var. leei), Sneed's pincushion cactus (Coryphantha sneedii var. sneedii) gypsum wild buckwheat (Erigonum gypsophilum), Todsen's pennyroyal (Hedeoma todsenii), Pecos sunflower (Helianthus paradoxus), Holy Ghost ipomopsis (Ipomopsis sancti-spiritus), Mesa Verde cactus (Sclerocactus mesae-verdae) | New Mexico | Seed collection | Harm, harass | Renew.
TE27791B | National Park Service, Montezuma Castle and Tuzigoot National Monuments; Camp Verde, Arizona | Southwestern willow flycatcher (Empidonax traillii extimus) | Arizona | Presence/absence surveys | Harm, harass | Renew.
TE33889B | Miami University; Oxford, Ohio | Diminutive amphipod (Gammarus hyalleloides), Noel's amphipod (Gammarus desperatus), Pecos amphipod (Gammarus pecos), Socorro isopod (Thermosphaeroma thermophilum), Chupadera springsnail (Pyrgulopsis chupaderae), Alamosa springnail (Tryonia alamosae) | New Mexico, Texas | Presence/absence surveys | Harm, harass | Renew.
TE830213 | EcoPlan Associates, Inc.; Mesa, Arizona | Black-footed ferret (Mustela nigripes), southwestern willow flycatcher (Empidonax traillii extimus), Sonora tiger salamander (Ambystoma tigrinum stebbinsi), Mount Graham red squirrel (Tamiasciurus hudsonicus grahamensis), Sonoran pronghorn (Antilocapra americana sonoriensis), Gila topminnow (Poeciliopsis occidentalis), desert pupfish (Cyprinodon macularius), Yaqui chub (Gila purpurea), Gila chub (Gila intermedia) | Arizona | Presence/absence surveys | Harm, harass | Renew.

Authority

We provide this notice under section 10 of the ESA (16 U.S.C. 1531 et seq.).

Amy L. Lueders,
Regional Director, Southwest Region, U.S. Fish and Wildlife Service.

[FR Doc. 2020-15801 Filed 7-21-20; 8:45 am]

BILLING CODE 4333-15-P